ENVIRONMENTAL PROTECTION AGENCY

[EPA-HQ-OPP-2006-0955; FRL-8367-8]

Rodenticides Final Risk Mitigation Decision; Notice of Availability

AGENCY: Environmental Protection Agency (EPA).

ACTION: Notice.

SUMMARY: This notice announces the availability of EPA's final risk mitigation decision for 10 rodenticides, an addendum to the economic impact assessment, responses to comments on the proposed risk mitigation decision, and other supporting documents. The 10 rodenticides covered by this risk mitigation decision are brodifacoum, bromadiolone, bromethalin, chlorophacinone, cholecalciferol, difenacoum, difethialone, diphacinone (and its sodium salt), warfarin (and its sodium salt), and zinc phosphide.

EPA's final decision on the rodenticides includes two major components. To minimize children's exposure to rodenticide products used in homes, EPA is requiring that in the future, all rodenticide bait products available for sale to general consumers be sold only in bait stations. To reduce wildlife exposures and ecological risks, the Agency intends to prevent general consumers from purchasing bait products containing the rodenticides that pose the greatest risk to wildlife (the second generation anticoagulants - brodifacoum, bromadiolone, difethialone, and difenacoum) by requiring various measures to control sales and distribution. The Agency's decision will reduce rodenticide exposures to children and non-target wildlife, while ensuring residential users, livestock producers, and professional applicators access to a variety of effective and affordable rodent control products.

FOR FURTHER INFORMATION CONTACT: Kelly Sherman, Special Review and Reregistration Division (7508P), Office of Pesticide Programs, Environmental Protection Agency, 1200 Pennsylvania Ave., NW., Washington, DC 20460-0001; telephone number: (703) 305-8401; fax number: (703) 305-8005; e-mail address: sherman.kelly@epa.gov.

SUPPLEMENTARY INFORMATION:

I. General Information

A. Does this Action Apply to Me?

This notice is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2006-0955. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

EPA is making available the final risk mitigation decision document and related supporting documents for the following 10 rodenticides: brodifacoum, bromadiolone, bromethalin, chlorophacinone, cholecalciferol, difenacoum, difethialone, diphacinone (and its sodium salt), warfarin (and its sodium salt), and zinc phosphide. This final risk mitigation decision represents the Agency's final decision on the reregistration eligibility of rodenticide products containing brodifacoum, bromadiolone, bromethalin, chlorophacinone, cholecalciferol, diphacinone (and its sodium salt), warfarin (and its sodium salt), and zinc phosphide. It also constitutes the Agency's final action in response to the remand order in “West Harlem Environmental Action and Natural Resources Defense Council v. U.S. Environmental Protection Agency”, 380 F.Supp.2d 289 (S.D.N.Y. 2005).

EPA's final decision on the rodenticides includes two major components. To minimize children's exposure to rodenticide products used in homes, EPA is requiring that in the future, all rodenticide bait products available for sale to general consumers be sold only in bait stations. A range of different types of bait stations will meet the new requirements, providing flexibility in cost. To reduce wildlife exposures and ecological risks, the Agency intends to prevent general consumers from purchasing bait products containing the rodenticides that pose the greatest risk to wildlife (the second generation anticoagulants - brodifacoum, bromadiolone, difethialone, and difenacoum) by requiring various measures to control sales and distribution. These new requirements support EPA's goal of preventing the sale of the second generation anticoagulants on the general consumer market, but will not change how the livestock industry or other professional applicators use rodenticides.

The Agency's decision will reduce rodenticide exposures to children and non-target wildlife, while ensuring residential users, livestock producers, and professional applicators access to a variety of effective and affordable rodent control products.

The decision document, including the Agency's supporting rationale for the decision, can be found in docket identification number EPA-HQ-OPP-2006-0955 at http://www.regulations.gov.

Over the past 10 years, EPA has undertaken an open and transparent process to assess and mitigate the risks associated with use of the nine rodenticides as part of the Agency's program to ensure that all pesticides meet current health and safety standards. Draft documents and proposals have been subject to numerous opportunities for public comment; the Agency received over 700 comments in response to the January 2007 proposed decision and is releasing a response to comments along with the decision document. In reaching its regulatory decision on the 10 rodenticides, EPA has worked extensively with its stakeholders, interested Federal agencies, and the public to hear their concerns and suggestions.

B. What is the Agency's Authority for Taking this Action?

EPA is reevaluating the use of eight of these rodenticides (brodifacoum, bromadiolone, bromethalin, chlorophacinone, cholecalciferol, diphacinone (and its sodium salt), warfarin (and its sodium salt), and zinc phosphide) pursuant to section 4 of FIFRA. The Agency's authority for implementing the risk mitigation measures identified in this risk mitigation decision in regard to all 10 redenticides derives from various sections of FIFRA, including, but not limited to, sections 3, 4, and 6.

List of Subjects

Environmental protection, Pesticides and pests.

Dated: May 28, 2008.
Steve Bradbury,
Director, Special Review and Reregistration Division, Office of Pesticide Programs.

[FR Doc. E8-12493 Filed 6-3-08; 8:45 am]

BILLING CODE 6560-50-S